NATIONAL ARCHIVES AND RECORDS ADMINISTRATION

Information Quality Guidelines

AGENCY: National Archives and Records Administration (NARA).

ACTION: Notice of availability of final information quality guidelines.

SUMMARY: NARA is giving notice of availability of its Information Quality Guidelines (guidelines). The guidelines contain NARA's standards of quality, utility, objectivity, and integrity for information that is disseminated to the public, and the administrative procedures for preparing, reviewing, and correcting information products. The guidelines also describe the mechanisms for the public to request correction of information, and to request reconsideration of a NARA decision to deny a request for correction.

The guidelines are available electronically at http://www.archives.gov/about_us/information_quality/guidelines.html. For a paper copy of the guidelines, contact the person listed in FOR FURTHER INFORMATION CONTACT.

EFFECTIVE DATE: The guidelines were effective October 1, 2002.

FOR FURTHER INFORMATION CONTACT: Lisa Weber at 301-837-3112.

Dated: October 1, 2002.
Nancy Allard,
Federal Register Liaison.

[FR Doc. 02-25393 Filed 10-3-02; 8:45 am]

BILLING CODE 7515-01-P